DEPARTMENT OF ENERGY

Western Area Power Administration

Extension of Public Comment Period for Central Valley Project Power, Transmission, and Ancillary Services; and the California-Oregon Transmission Project Transmission Service—Rate Order No. WAPA-207

AGENCY: Western Area Power Administration, DOE.

ACTION: Notice of extension of public comment period for power, transmission, and ancillary services formula rates.

SUMMARY: The Sierra Nevada Region (SN) of the Western Area Power Administration (WAPA) is extending the public comment period for 30 days on its proposed formula rates for Central Valley Project (CVP) power, transmission, and ancillary services; and California-Oregon Transmission Project (COTP) transmission service under Rate Order No. WAPA-207.

DATES: The consultation and comment period for the proposed formula rates under Rate Order No. WAPA-207 is extended from November 28, 2023, to December 28, 2023.

FOR FURTHER INFORMATION CONTACT: Autumn Wolfe, Rates Manager, Sierra Nevada Region, Western Area Power Administration, (916) 353-4686 or email: SNR-RateCase@wapa.gov.

SUPPLEMENTARY INFORMATION: On August 30, 2023, SN published a notice in the Federal Register (88 FR 59909) announcing proposed formula rates for Central Valley Project power, transmission, and ancillary services; and California-Oregon Transmission Project transmission service under Rate Order No. WAPA-207. In that notice, the consultation and comment period was reported to close November 28, 2023. SN is extending the consultation and comment period to December 28, 2023, to provide interested parties additional time to comment on the proposed formula rates under Rate Order No. WAPA-207.

Signing Authority: This document of the Department of Energy was signed on November 6, 2023, by Tracey A. LeBeau, Administrator, Western Area Power Administration, pursuant to delegated authority from the Secretary of Energy. That delegation authority document, with the original signature and date, is maintained by DOE. For administrative purposes only, and in compliance with requirements of the Office of the Federal Register, the undersigned DOE Federal Register Liaison Officer has been authorized to sign and submit this document in electronic format for publication, as an official document of the DOE. This administrative process in no way alters the legal effect of this document upon publication in the Federal Register.

Signed in Washington, DC, on November 14, 2023.
Treena V. Garrett,
Federal Register Liaison Officer, U.S. Department of Energy.

[FR Doc. 2023-25432 Filed 11-16-23; 8:45 am]

BILLING CODE 6450-01-P